DEPARTMENT OF THE TREASURY

Submission for OMB Review; Comment Request

May 16, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 24, 2002, to be assured of consideration.

Bureau of Alcohol, Tobacco and Firearms (BATF)

OMB Number: 1512-0017.

Form Number: ATF Form 6 (5330.3A) Part I.

Type of Review: Extension.

Title: Application and Permit for Importation of Firearms, Ammunition and Implements of War.

Description: This information collected is needed to determine whether firearms, ammunition and implements of war are eligible for importation into the United States. Used to secure authorization to import such articles. All persons who desire to import such articles except for person who are members of the U.S. Armed Forces must complete this form.

Respondents: Individuals or households, business or other for-profit.

Estimated Number of Respondents: 11,000.

Estimated Burden Hours Per Respondent: 30 minutes.

Frequency of Response: On occasion.

Estimated Total Reporting Burden: 5,500 hours.

OMB Number: 1512-0078.

Form Number: ATF F 1533 (5000.18).

Type of Review: Extension.

Title: Consent of Surety.

Description: A consent of surety is executed by both the bonding company and a proprietor and acts as a binding legal agreement between the two parties to extend the terms of a bond. A bond is necessary to cover specific liabilities on the revenue produced from untaxpaid commodities. This consent of surety is filed with ATF and a copy is retained by ATF as long as it remains current and in force.

Respondents: Business or other for-profit.

Estimated Number of Respondents: 2,000.

Estimated Burden Hours Per Respondent: 1 hour.

Frequency of Response: On occasion, other (with application and permit change).

Estimated Total Reporting Burden: 2,000 hours.

OMB Number: 1512-0100.

Form Number: ATF F 5000.29 and ATF F 5000.30.

Type of Review: Extension.

Title: ATF F 5000.29: Environmental Information; ATF F 5000.30: Supplemental Information Water Quality Considerations Under 33 U.S.C. 1341(a).

Description: “Environmental impact statements, Water Pollution Environmental evaluation” ATF F 5000.29 and ATF F 5000.30 implement regulations of the Clean Water Act and the National Environmental Policy Act (NEPA authorizes ATF through ATF F 5000.29 to require a license or permit application to state the location of existing or proposed activities concerned with land, air pollution, water and activities related to ATF.

Respondents: Business or other for-profit.

Estimated Number of Respondents: 8,000.

Estimated Burden Hours Per Respondent: 30 minutes.

Frequency of Response: On occasion.

Estimated Total Reporting Burden: 4,400 hours.

OMB Number: 1512-0418.

Form Number: ATF F 1533 (5000.18).

Type of Review: Extension.

Title: Application for Enrollment to Practice Before the Bureau of Alcohol, Tobacco and Firearms.

Description: Application to practice before the Bureau of Alcohol, Tobacco and Firearms is necessary so that the Bureau may evaluate the qualification of applicants in order to assure only competent, reputable persons are authorized to represent claimants.

Respondents: Business or other for-profit.

Estimated Number of Respondents: 2.

Estimated Burden Hours Per Respondent: 1 hour.

Frequency of Response: Other (initial application and renewal every 5 years).

Estimated Total Reporting Burden: 2 hours.

Clearance Officer: Jacqueline White, Bureau of Alcohol, Tobacco and Firearms, Room 3200, 650 Massachusetts Avenue, NW., Washington, DC 20226, (202) 927-8930.

OMB Reviewer: Alexander T. Hunt, Office of Management and Budget, Room 10202, New Executive Office Building, Washington, DC 20503, (202) 395-7860.

Lois K. Holland,
Departmental Reports Management Officer.

[FR Doc. 02-12889 Filed 5-22-02; 8:45 am]

BILLING CODE 4810-31-P